DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Report of Privately Owned Residential Building or Zoning Permits Issued (Building Permits Survey).

Form Number(s): C-404.

Agency Approval Number: 0607-0094.

Type of Request: Revision of a currently approved collection.

Burden: 30,716 hours.

Number of Respondents: 19,000.

Avg Hours Per Response: 9 minutes.

Needs and Uses: The Census Bureau conducts the Building Permits Survey to collect data that will provide estimates of the number and valuation of new residential housing units authorized by building permits. We use the data, a component of the index of leading economic indicators, to estimate the number of housing units started, completed, and sold, if single-family. The Census Bureau also uses these data to select samples for its demographic surveys. Policymakers, planners, businessmen/women, and others use the detailed geographic data collected from state and local officials on new residential construction authorized by building permits to monitor growth and plan for local services, and to develop production and marketing plans. The Building Permits Survey is the only source of statistics on residential construction for states and smaller geographic areas.

Due to budget reductions, the collection of nonresidential data was discontinued as of January 1996. With this submission we have decreased the estimated number of annual responses, accordingly. We have also eliminated the Forms C-404(I) and C-404(B). The primary instructions, C-404(I), are now included on the reverse side of Form C-404. The C-404(B) booklet listing classification of many types of nonresidential construction is no longer needed.

Affected Public: State, local, or Tribal Government.

Frequency: Monthly and annually.

Respondent's Obligation: Voluntary.

Legal Authority: Title 13 U.S.C., Sections 9(b), 161, and 182.

OMB Desk Officer: Susan Schechter, (202) 395-5103.

Copies of the above information collection proposal can be obtained by calling or writing Madeleine Clayton, Departmental Forms Clearance Officer, (202) 482-3129, Department of Commerce, room 6086, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: December 8, 2000.
Madeleine Clayton,
Departmental Forms Clearance Officer, Office of the Chief Information Officer.

[FR Doc. 00-31780 Filed 12-13-00; 8:45 am]

BILLING CODE 3510-07-P